ENVIRONMENTAL PROTECTION AGENCY

[FRL-8001-9; NV-TV-001]

Clean Air Act Operating Permit Program; Petition for Objection to State Operating Permit for El Dorado Energy, LLC in Clark County, NV

AGENCY: Environmental Protection Agency, (EPA).

ACTION: Notice of final order on petition to object to state operating permit.

SUMMARY: This notice announces that the EPA Administrator has responded to a citizen petition requesting that EPA object to an operating permit issued by the Clark County Department of Air Quality and Environmental Management (DAQEM). The Administrator has denied in full a petition submitted by Robert Hall requesting that the Administrator object to the state operating permit issued to El Dorado Energy in Boulder City, Nevada.

Pursuant to section 505(b)(2) of the Clean Air Act (Act), the petitioner may seek judicial review of any portion of the petition which EPA denied in the United States Court of Appeals for the Ninth Circuit. Any petitions for review shall be filed within 60 days from the date this notice appears in the Federal Register, pursuant to section 307 of the Act.

ADDRESSES: Copies of the final order, petition, and other supporting information are available at the Environmental Protection Agency, Region IX, AIr Division, 75 Hawthorne Street, San Francisco, CA 94105. The final order is also available electronically at: http://www.epa.gov/region07/programs/artd/air/title5/petitiondb/petitions/el_dorado_decision 2003.pdf

FOR FURTHER INFORMATION CONTACT: Gerardo Rios, Chief, Air Permits Office, EPA Region IX, telephone (415) 972-3964, e-mail r9airpermits@epa.gov.

SUPPLEMENTARY INFORMATION: EPA approves state and local permitting authorities to administer the operating permit program set forth in title V of the Clean Air Act, 42 U.S.C. 7661-7661f. DAQEM administers a fully approved title V operating permit program. The Clean Air Act affords EPA the opportunity for a 45-day period to review, and object to as appropriate, operating permits proposed by permitting authorities. Section 505(b)(2) of the act authorizes any person to petition the EPA Administrator within 60 days after the expiration of this review period to object to a state operating permit if EPA has not done so. Petitions must be based on objections to the permit that were raised with reasonable specificity during the public comment period provided by the state, unless the petitioner demonstrates that it was impracticable to raise these issues during the comment period or the grounds for the issues arose after this period.

DAQEM submitted the proposed permit to EPA on June 3, 2003. EPA received the petition to object to the permit on August 29, 2003, prior to the deadline for section 505(b)(2) petitions.

On September 22, 2005, the Administrator issued an order denying in full the petition submitted by Robert Hall. The order explains the reasons behind EPA's decisions to grant or deny each issue.

Dated: November 10, 2005.
Laura Yoshii,
Acting Regional Administrator, Region 9.

[FR Doc. 05-23231 Filed 11-25-05; 8:45 am]

BILLING CODE 6560-01-M